NUCLEAR REGULATORY COMMISSION

Reactor Oversight Process Initial Implementation Evaluation Panel; Meeting Notice

Pursuant to the Federal Advisory Committee Act of October 6, 1972 (Pub. L., 94-463, Stat. 770-776) the U.S. Nuclear Regulatory Commission (NRC), on October 2, 2000, announced the establishment of the Reactor Oversight Process Initial Implementation Evaluation Panel (IIEP). The IIEP functions as a cross-disciplinary oversight group to independently monitor and evaluate the results of the first year of implementation of the Reactor Oversight Process (ROP). A Charter governing the IIEP functions as a Federal Advisory Committee was filed with Congress on October 17, 2000, after consultation with the Committee Management Secretariat, General Services Administration. The IIEP will hold its third meeting on January 22-23, 2001, at the Four Points by Sheraton Bethesda Hotel. The Four Points by Sheraton Bethesda Hotel is located at 8400 Wisconsin Avenue, Bethesda, Maryland 20814 and can be contacted at (301)654-1000. The meeting will take place in the Hotel's Ambassador II Conference Room.

The IIEP meeting participants are listed below along with their affiliation:

A. Randolph Blough—U.S. Nuclear Regulatory Commission

R. William Borchardt—U.S. Nuclear Regulatory Commission

Kenneth Brockman—U.S. Nuclear Regulatory Commission

Mary Ferdig—Ph. D. Candidate, Organization Development Program, Benedictine University; Ferdig Inc. Organizational Research and Development

Steve Floyd—Nuclear Energy Institute

David Garchow—PSEG Nuclear LLC

Richard Hill—Southern Nuclear Operating Company

Rod Krich—Commonwealth Edison Company

Robert Laurie—California Energy Commission

James Moorman, III—U.S. Nuclear Regulatory Commission

Loren Plisco—U.S. Nuclear Regulatory Commission

Steven Reynolds—U.S. Nuclear Regulatory Commission

A. Edward Scherer—Southern California Edison Company

James Setser—Georgia Department of Natural Resources

Raymond Shadis—New England Coalition on Nuclear Pollution

James Trapp—U.S. Nuclear Regulatory Commission

A tentative agenda of the meeting is outlined as follows:

January 22, 2001 Meeting

8:00 am Introduction/Meeting Objectives and Goals/Review of Meeting Minutes from December 11-12, 2000 Meeting

8:30 am Initial Prioritization of Issues Identified Through the Panel

12:00 pm Lunch

1:00 pm Presentation by NRC Staff on (1) Reactor Oversight Process Self-Assessment Data and Insights, (2) Current Reactor Oversight Process Initiatives and Status, and (3) Status of Recommendations and Issues Identified in the Pilot Program Evaluation Panel Report and Commission Staff Requirements Memorandum

5:00 pm Adjourn

January 23, 2001 Meeting

8:00 am Recap of Previous Day's Meeting/Meeting Objectives and Goals

8:30 am Presentation of Stakeholder Issues/Views (Invited parties)

12:00 pm Lunch

1:00 pm Initial Prioritization of Issues Identified Through the Panel (continued)

3:00 pm Agenda Planning Session 4:00 pm Public Comments / General Discussion

5:00 pm Adjourn

Meetings of the IIEP are open to the members of the public. Oral or written views may be presented by the members of the public, including members of the nuclear industry. Persons desiring to make oral statements should notify Mr. Loren R. Plisco (Telephone 404/562-4501, e-mail LRP@nrc.gov) or Mr. John D. Monninger (Telephone 301/415-3495, e-mail JDM@nrc.gov) five days prior to the meeting date, if possible, so that appropriate arrangements can be made to allow necessary time during the meeting for such statements. Use of still, motion picture, and television cameras will be permitted during this meeting.

Further information regarding topics of discussion; whether the meeting has been canceled, rescheduled, or relocated; and the Panel Chairman's ruling regarding requests to present oral statements and time allotted, may be obtained by contacting Mr. Loren R. Plisco or Mr. John D. Monninger between 8:00 a.m. and 4:30 p.m. EST.

IIEP meeting transcripts and meeting reports will be available from the Commission's Public Document Room. Transcripts will be placed on the agency's web page.

Dated: January 3, 2001.
Andrew L. Bates,
Advisory Committee Management Officer.

[FR Doc. 01-598 Filed 1-8-01; 8:45 am]

BILLING CODE 7590-01-P